DEPARTMENT OF TRANSPORTATION

Maritime Administration

[Docket No. MARAD-2019-0155]

Request for Comments on the Approval of a New Proposed Information Collection: Port Infrastructure Development Program

AGENCY: Maritime Administration, DOT.

ACTION: Notice and request for comments.

SUMMARY: The Maritime Administration (MARAD) invites public comments on our intention to request the Office of Management and Budget (OMB) approval of a new information collection. The information to be collected are applications for grants to be used to support DOT's work with State, local, Tribal, and private partners to guide investments that stimulate economic growth, improve the condition of transportation infrastructure, and enable the efficient and safe movement of people and goods. We are required to publish this notice in the Federal Register by the Paperwork Reduction Act of 1995.

DATES: Comments must be submitted on or before December 6, 2019.

ADDRESSES: You may submit comments identified by Docket No. MARAD-2019-0155 through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Robert Bouchard, 202-366-5076, Office of Infrastructure Development and Congestion Mitigation, Maritime Administration, 1200 New Jersey Avenue SE, Washington, DC 20590, Email: Robert.bouchard@dot.gov. Copies of this collection also can be obtained from that office.

SUPPLEMENTARY INFORMATION:

Title: Port Infrastructure Development Program.

OMB Control Number: 2133-NEW.

Type of Request: New information collection.

Abstract: On February 15, 2019, the President signed the Consolidated Appropriations Act, 2019 (FY 2019 Appropriations Act), which appropriated $292,730,000 to be awarded by the U.S. Department of Transportation (Department) for the Port Infrastructure Development Program (Program). This appropriations act allows the Department to make discretionary grants to improve port facilities at or near coastal seaports. This Program supports the Department of Transportation (DOT) strategic goal of infrastructure investment to ensure safety and to stimulate economic growth, productivity and competitiveness for American workers and businesses. DOT seeks to work effectively with State, local, Tribal, and private partners to guide investments that stimulate economic growth, improve the condition of transportation infrastructure, and enable the efficient and safe movement of people and goods. To achieve this goal, DOT will provide guidance, technical assistance, and research that leverages Federal funding, accelerates project delivery, reduces project lifecycle costs, and optimizes the operation and performance of existing facilities. By using innovative forms of project delivery, encouraging partnerships between the public and private sectors, and strategically balancing investments across various modes of transportation to promote greater efficiencies, DOT can maximize the returns to the Nation's economy and people.

Respondents: A port authority, a commission or its subdivision or agent under existing authority, as well as a State or political subdivision of a State or local government, a Tribal government, a public agency or publicly chartered authority established by one or more States, a special purpose district with a transportation function, a multistate or multijurisdictional group of entities, or a lead entity described above jointly with a private entity or group of private entities.

Affected Public: State, Local, or Tribal Government.

Estimated Number of Respondents: 250.

Estimated Number of Responses: 250.

Estimated Hours per Response: 160.

Annual Estimated Total Annual Burden Hours: 40,000.

Frequency of Response: Annually.

Authority: The Paperwork Reduction Act of 1995; 44 U.S.C. Chapter 35, as amended; and 49 CFR 1.49.

* * * * *

Dated: October 2, 2019.
By Order of the Maritime Administrator.
T. Mitchell Hudson, Jr.,
Secretary, Maritime Administration.

[FR Doc. 2019-21824 Filed 10-4-19; 8:45 am]

BILLING CODE 4910-81-P